ENVIRONMENTAL PROTECTION AGENCY

[ER-FRL-9027-5]

Environmental Impact Statements; Notice of Availability

Responsible Agency: Office of Federal Activities, General Information (202) 564-7146 or http://www2.epa.gov/nepa.

Weekly receipt of Environmental Impact Statements

Filed 05/30/2016 Through 06/03/2016

Pursuant to 40 CFR 1506.9.

Notice

Section 309(a) of the Clean Air Act requires that EPA make public its comments on EISs issued by other Federal agencies. EPA's comment letters on EISs are available at: http://www.epa.gov/compliance/nepa/eisdata.html.

EIS No. 20160124, Final, FERC, AK, Sweetheart Lake Hydroelectric Project, Review Period Ends: 07/11/2016, Contact: John Matkowski 202-502-8576

EIS No. 20160125, Final, BIA, NV, Aiya Solar Project, Review Period Ends: 07/11/2016, Contact: Charles Lewis 602-379-6782

EIS No. 20160126, Draft, USA, AZ, Lone Star Ore Body Development Project, Comment Period Ends: 07/25/2016, Contact: Michael Langley 602-230-6953

EIS No. 20160127, Final, NPS, CA, Restoration of Native Species in High Elevation Aquatic Ecosystems Plan, Review Period Ends: 07/11/2016, Contact: Woody Smeck 559-565-3100

EIS No. 20160128, Final, USACE, NC, Morehead City Harbor Integrated Dredged Material Management Plan, Review Period Ends: 07/11/2016, Contact: Jennifer Owens 910-251-4757

EIS No. 20160129, Draft, USFS, CA, Los Padres Tamarisk Removal, Comment Period Ends: 07/25/2016, Contact: Lloyd Simpson 805-646-4348 ex. 316

EIS No. 20160130, Draft, NOAA, TX, Flower Garden Banks National Marine Sanctuary Boundary Expansion, Comment Period Ends: 08/19/2016, Contact: Kelly Drinnen 409-621-5151 Ext.105

EIS No. 20160131, Third Final Supplemental, USFS, MT, Beaverhead-Deerlodge National Forest Land and Resource Management Plan to comply with District of Mont Court Order, Review Period Ends: 07/20/2016, Contact: Jan Bowey 406-842-5432

EIS No. 20160132, Draft, FHWA, CO, US 50 Corridor East, Comment Period Ends: 07/29/2016, Contact: Patricia Sergeson 720-963-3073

EIS No. 20160133, Final, FTA, VA, Potomac Yard Metrorail Station, Review Period Ends: 07/11/2016, Contact: Dan Koenig 202-219-3528

EIS No. 20160134, Final, TVA, TN, PROGRAMMATIC—Ash Impoundment Closure, Review Period Ends: 07/11/2016, Contact: Ashley Farless 423-751-2361

Dated: June 7, 2016.
Dawn Roberts,
Management Analyst, NEPA Compliance Division, Office of Federal Activities.

[FR Doc. 2016-13791 Filed 6-9-16; 8:45 am]

BILLING CODE 6560-50-P